DEPARTMENT OF THE INTERIOR

Office of the Secretary

[18XD4523WU, DWUCM0000.000000, DS62400000, DX62432; OMB Control Number 1084-0034]

Agency Information Collection Activities; Documenting, Managing and Preserving Department of the Interior Museum Collections Housed in Non-Federal Repositories

AGENCY: Office of Acquisition and Property Management, Interior.

ACTION: Notice of information collection; request for public comments.

SUMMARY: In accordance with the Paperwork Reduction Act of 1995, we, the Office of Acquisition and Property Management, Office of the Secretary, Department of the Interior are proposing to renew an information collection.

DATES: Interested persons are invited to submit comments on or before March 19, 2018.

ADDRESSES: Send written comments on this information collection request (ICR) by mail to Elizabeth Varner, Office of Acquisition and Property Management, U.S. Department of the Interior, 1849 C Street NW, MS 4262-MIB, Washington, DC 20240; fax (202) 513-7634; or by email to Elizabeth_Varner@ios.doi.gov. Please reference OMB Control Number 1084-0034 in the subject line of your comments.

FOR FURTHER INFORMATION CONTACT: To request additional information about this ICR, contact Elizabeth Varner by email at Elizabeth_Varner@ios.doi.gov, or by telephone at (202) 513-7564.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the Office of Acquisition and Property Management; (2) will this information be processed and used in a timely manner; (3) is the estimate of burden accurate; (4) how might the Office of Acquisition and Property Management enhance the quality, utility, and clarity of the information to be collected; and (5) how might the Office of Acquisition and Property Management minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Department of the Interior (DOI) owns and manages over 204 million artifacts, scientific specimens, and documents in trust for the American public. This diverse collection consists of archaeological artifacts, archives, art, biological specimens, ethnographic objects, geological specimens, historic objects, and paleontological specimens that are held by ten of DOI's bureaus and offices. The majority of DOI's collections are housed in bureau facilities; however, over ten percent (more than 25 million objects and 19,000 cubic feet of objects) are housed by at least 882 non-Federal repositories, the majority of which are museums associated with, or departments of, U.S. colleges and universities. Most are scientific collections from the disciplines of archaeology, biology, geology, and paleontology and include associated archival records.

DOI museum collections, regardless of where they are housed, must be managed according to preservation, documentation, educational, and other requirements in the public interest. These requirements are mandated by a number of Federal laws, notably: Archaeological Resources Protection Act of 1979, as amended (16 U.S.C. 470aa-mm); Paleontological Resources Preservation Act of 2009 (16 U.S.C. 470aaa-4); Migratory Bird Treaty Act of 1918 (16 U.S.C. 703-712); Marine Mammal Protection Act of 1972 (16 U.S.C. 1361-1407); Endangered Species Act of 1973, as amended (16 U.S.C. 1531-1543); Lacy Act of 1900 (16 U.S.C. 3371-3378; 18 U.S.C. 43-44); Native American Graves Protection and Repatriation Act of 1990 (25 U.S.C. 3001-3013); Federal Property and Administrative Services Act of 1949, as amended (40 U.S.C. 524); National Park Service Organic Act of 1916 (54 U.S.C. 100101); Management of Museum Properties Act of 1955, as amended (54 U.S.C. 102501-102504); National Historic Preservation Act of 1966, as amended (54 U.S.C. 300101 et seq.); Historic Sites Act of 1935 (54 U.S.C. 320101-320104, 320106); and Monuments, Ruins, Sites, and Objects of Antiquity (Act for the Preservation of American Antiquities of 1906 (“Antiquities Act”)) (54 U.S.C. 320301-320303). Pertinent regulations are Curation of Federally-Owned and Administered Archaeological Collections (36 CFR part 79); Federal Management Regulation, Subchapter B: Personal Property (41 CFR part 102); Protection of Archaeological Resources (43 CFR part 7); and Native American Graves Protection and Repatriation Act Regulations (43 CFR part 10). Pertinent policies are the Department of the Interior Departmental Manual, Part 410: Personal Property Management and Part 411: Identifying and Managing Museum Property (411 DM), and DOI Museum Property Directives that implement 411 DM.

The Departmental Manual chapter, 411 DM, which implements the Federal laws and regulations noted above, requires the following information be collected, used, and retained by all bureaus that hold ownership of museum collections: Facility Checklist for Spaces Housing DOI Museum Property; catalog records; accession records; and inventories of museum collections. These requirements apply to all DOI museum collections regardless of each collection's location (DOI facility or non-DOI facility) or the personnel that accomplished the work (DOI staff, contractors, partners, cooperators, agencies, institutions, or similar organizations associated with DOI).

Title of Collection: Documenting, Managing and Preserving Department of the Interior Museum Collections Housed in Non-Federal Repositories.

OMB Control Number: 1084-0034.

Form Number: None.

Type of Review: Extension of a currently approved collection.

Respondents/Affected Public: Museums; academic, cultural, and research institutions; and, state or local agencies and institutions.

Total Estimated Number of Annual Respondents: 900.

Total Estimated Number of Annual Responses: 900.

Estimated Completion Time per Response: 2 hours, 20 minutes.

Total Estimated Number of Annual Burden Hours: 2,100.

Respondent's Obligation: Voluntary.

Frequency of Collection: Maximum of once per year per collection instrument, and likely less frequently.

Total Estimated Annual Non Hour Burden Cost: None.

An agency may not conduct or sponsor and a person is not required to respond to a collection of information unless it displays a currently valid OMB control number.

The authority for this action is the Paperwork Reduction Act of 1995 (44 U.S.C. 3501 et seq.).

Tammy Bagley,
Acting Director, Office of Acquisition and Property Management.

[FR Doc. 2018-00669 Filed 1-16-18; 8:45 am]

BILLING CODE 4334-63-P